DEPARTMENT OF COMMERCE

United States Patent and Trademark Office

Information Collection; Submissions Regarding Correspondence and Regarding Attorney Representation (Trademarks)

ACTION: Proposed extension of an existing information collection; comment request.

SUMMARY: The United States Patent and Trademark Office (USPTO), as required by the Paperwork Reduction Act of 1995, invites comments on a proposed extension of an existing information collection: 0651-0056 (Submissions Regarding Correspondence and Regarding Attorney Representation (Trademarks).

DATES: Written comments must be submitted on or before September 5, 2017.

ADDRESSES: You may submit comments by any of the following methods:

• Email: InformationCollection@uspto.gov. Include “0651-0056 comment” in the subject line of the message.

• Federal Rulemaking Portal: http://www.regulations.gov.

• Mail: Marcie Lovett, Records and Information Governance Division Director, Office of the Chief Technology Officer, United States Patent and Trademark Office, P.O. Box 1450, Alexandria, VA 22313-1450.

FOR FURTHER INFORMATION CONTACT: Requests for additional information should be directed to Catherine Cain, Attorney Advisor, United States Patent and Trademark Office, P.O. Box 1450, Alexandria, VA 22313-1450; by telephone at 571-272-5966; or by email to catherine.cain@uspto.gov with “0651-0056 comment” in the subject line. Additional information about this collection is also available at http://www.reginfo.gov under “Information Collection Review.”

SUPPLEMENTARY INFORMATION

I. Abstract

The United States Patent and Trademark Office (USPTO) administers the Trademark Act, 15 U.S.C. 1051 et seq., which provides for the Federal registration of trademarks, service marks, collective trademarks and service marks, collective membership marks, and certification marks. Individuals and businesses that use or intend to use such marks in commerce may file an application to register their marks with the USPTO.

Such individuals and business may also submit various communications to the USPTO regarding their pending applications or registered trademarks, including providing additional information needed to process a pending application, filing amendments to the applications, or filing the papers necessary to keep a trademark in force. In the majority of circumstances, individuals and business retain attorneys to handle these matters. As such, these parties may also submit communications to the USPTO regarding the appointment of attorneys to represent applicants or registrants in the application and post-registration processes or, in the case of applicants or registrants who are not domiciled in the United States, the appointment of domestic representatives on whom may be served notices of process in proceedings affecting the mark, the revocation of an attorney's or domestic representative's appointment, and requests for permission to withdraw from representation.

The rules implementing the Act are set forth in 37 CFR part 2. In addition to governing the registration of trademarks, the Act and rules also govern the appointment and revocation of attorneys and domestic representatives and provide the specifics for filing requests for permission to withdraw as the attorney of record. The information in this collection is available to the public.

The information in this collection can be submitted in paper form or electronically through the Trademark Electronic Application System (TEAS). The information in this collection can be collected in three different formats: paper format, electronically using TEAS forms with dedicated data fields, or electronically using the TEAS Global Form format. The TEAS Global Form format permits the USPTO to collect information electronically when a TEAS form having dedicated data fields is not yet available.

This collection currently has two TEAS forms and two TEAS Global Forms. There are no official paper forms for the items in this collection. Individuals and businesses can submit their own paper forms, following the USPTO's rules and guidelines to ensure that all of the necessary information is provided.

II. Method of Collection

The forms in this collection are available in electronic format through TEAS, which may be accessed on the USPTO Web site. TEAS Global Forms are available for the items where a TEAS form with dedicated data fields is not yet available. Applicants may also submit the information in paper form by mail, fax, or hand delivery.

III. Data

Title of Collection: Submissions Regarding Correspondence and Regarding Attorney Representation.

OMB Control Number: 0651-0056.

IC Instruments and Forms: PTO Forms 2196 and 2201. The TEAS Global Forms: Replacement of Attorney of Record with Another Already-Appointed Attorney and Request to Withdraw as Domestic Representative.

Type of Review: Extension of a Previously Existing Information Collection.

Affected Public: Businesses or other for-profits; not-for-profit institutions; individuals.

Estimated Number of Respondents: 84,291 responses per year. Of this total, the USPTO estimates that most responses will be filed through TEAS.

Estimated Time per Response: The USPTO estimates that the response time for activities related to this collection will take the public approximately 5 to 30 minutes (0.08 to 0.50 hours) to complete this information (See Table 1). This includes the time to gather the necessary information, prepare the requests, and submit them to the USPTO. The time estimates shown for the electronic forms in this collection are based on the average amount of time needed to complete and electronically file the associated form.

Estimated Time Annual Burden Hours: 7,840.77 hours.

Estimated Total Annual Respondent (Hourly) Cost Burden: $3,214,715.70 The USPTO expects that attorneys will complete these applications. The professional hourly rate for attorneys is $410. The rate is established by estimates in the 2015 Report on the Economic Survey, published by the Committee on Economics of Legal Practice of the American Intellectual Property Law Association. Using this hourly rate, the USPTO estimates that the total respondent burden for this collection is $3,214,715.70 per year.

Table 1—Total Respondent Hour and Cost Burden
IC No. Item | Estimated time for response (hour) | Estimated annual responses | Estimated annual burden hours | Rate ($/hr) | Estimated total annual hourly cost burden
| (a) | (b) | (c) (a) × (b) | (d) | (e) (c) × (d)
1. Revocation, Appointment, and/or Change of Address of Attorney/Domestic Representative (Paper) | 0.17 | 150 | 25.50 | $410.00 | $10,455.00
1. Revocation, Appointment, and/or Change of Address of Attorney/Domestic Representative (TEAS) | 0.08 | 75,000 | 6,000.00 | 410.00 | 2,460,000.00
2. Request for Withdrawal as Attorney of Record/Update of USPTO's Database After Power of Attorney Ends (Paper) | 0.25 | 18 | 4.50 | 410.00 | 1,845.00
2. Request for Withdrawal as Attorney of Record/Update of USPTO's Database After Power of Attorney Ends (TEAS) | 0.20 | 9,000 | 1,8000 | 410.00 | 738,000.00
3. Replacement of Attorney of Record with Another Already-Appointed Attorney (Paper) | 0.50 | 1 | 0.50 | 410.00 | 205.00
3. Replacement of Attorney of Record with Another Already-Appointed Attorney (TEAS Global) | 0.50 | 1 | 0.50 | 410.00 | 205.00
4. Request to Withdraw as Domestic Representative (Paper) | 0.17 | 1 | 0.17 | 410.00 | 69.70
4. Request to Withdraw as Domestic Representative (TEAS Global) | 0.08 | 120 | 9.60 | 410.00 | 3,936.00
Total |  | 84,291 | 7,840.77 |  | 3,214,715.70

Estimated Total Annual (Non-Hour) Respondent Cost Burden: There are no filing fees or capital start-up, maintenance, operation, or recordkeeping costs associated with this information collection. However, this collection does have postage costs associated with it. Applicants incur postage costs when submitting the information in paper format to the USPTO by mail through the United States Postal Service. The USPTO estimates that the majority (98%) of the paper forms are submitted to the USPTO via first-class mail. The USPTO estimates that 289 paper submissions will be mailed for a total non-hour respondent cost burden of $82.81.

Table 2—Postage Costs
IC No./Item | Estimated annual responses | Postage cost | Total postage cost
| (a) | (b) |
1. Revocation of Attorney/Domestic Representative and/or Appointment of Attorney/Domestic Representative (Paper) | 150 | $0.49 | $73.50
2. Request for Permission to Withdraw as Attorney of Record (Paper) | 18 | 0.49 | 8.82
3. Replacement of Attorney of Records with Another Already Appointed Attorney (Paper) | 1 | 0.49 | 0.49
4. Request to Withdraw as Domestic Representative (Paper) | 120 | 0.49 | 58.80
Total | 289 |  | 82.81

Therefore, the USPTO estimates that the total annual (non-hour) cost burden for this collection is $82.81 due to postage costs.

IV. Request for Comments

Comments submitted in response to this notice will be summarized or included in the request for OMB approval of this information collection. They also will become a matter of public record.

Comments are invited on:

(a) Whether the proposed collection of information is necessary for the proper performance of the functions of the agency, including whether the information shall have practical utility;

(b) the accuracy of the agency's estimate of the burden (including hours and cost) of the proposed collection of information;

(c) ways to enhance the quality, utility, and clarity of the information to be collected; and

(d) ways to minimize the burden of the collection of information on respondents, e.g., the use of automated collection techniques or other forms of information technology.

Marcie Lovett,
Records and Information Governance Division Director, OCTO, United States Patent and Trademark Office.

[FR Doc. 2017-14181 Filed 7-5-17; 8:45 am]

BILLING CODE 3510-16-P